DEPARTMENT OF HEALTH AND HUMAN SERVICES

National Institutes of Health

Proposed Collection; Comment Request: Process Evaluation of the Early Independence Award (EIA) Program

SUMMARY: In compliance with the requirement of Section 3506(c)(2)(A) of the Paperwork Reduction Act of 1995, for opportunity for public comment on proposed data collection projects, the Office of Strategic Coordination (OSC), Division of Program Coordination, Planning, and Strategic Initiatives (DPCPSI), National Institutes of Health (NIH), will publish periodic summaries of proposed projects to be submitted to the Office of Management and Budget (OMB) for review and approval.

Proposed Collection: Title: Process Evaluation of the Early Independence Award (EIA) Program. Type of Information Collection Request: NEW. Need and Use of Information Collection: This study will assess the EIA program operations. The primary objectives of the study are to (1) assess if the requests for applications (RFAs) are meeting the needs of applicants, (2) document the selection process, (3) document EIA program operations, (4) assess the progress being made by the Early Independence Principal Investigators, and (5) assess the support provided by the Host Institutions to the Early Independence Principal Investigators.

The findings will provide valuable information concerning (1) aspects of the program that could be revised or improved, (2) progress made by the Early Independence Principal Investigators, and (3) implementation of the program at Host Institutions.

Frequency of Response: On occasion. Affected Public: None. Type of Respondents: Applicants, reviewers, and awardees. The annual reporting burden is as follows: Estimated Number of Respondents: 390; Estimated Number of Responses per Respondent: 1; Average Burden Hours per Response: 4; and Estimated Total Annual Burden Hours Requested: 158. The annualized cost to respondents is estimated at: $9,774. There are no Capital Costs to report. There are no Operating or Maintenance Costs to report.

A.12.1—Annualized Estimate of Hour Burden
Type of respondents | Number of respondents (average) ¹ | Frequency of response | Average time per response (min.) | Annual hour burden ²
Editorial Board Reviewers (paper survey) | 15 | 1 | 15 | 4
Applicants—Principal Investigators (online survey) | 150 | 1 | 15 | 38
Applicants—Officials of Host Institutions (online survey) | 150 | 1 | 15 | 38
Awardees—Early Independence Principal Investigator (paper survey—beginning of 1st year of award) | 12 | 1 | 30 | 6
Awardees—Early Independence Principal Investigator (phone interview—end of 1st year of award) | 12 | 1 | 60 | 12
Awardees—Early Independence Principal Investigator (online survey—end of 2nd and 3rd year of award) | 24 | 1 | 60 | 24
Awardees—Point of Contact at Host Institution (phone interview—end of 1st year of award) | 12 | 1 | 60 | 12
Awardees—Point of Contact at Host Institution (online survey—end of 2nd and 3rd year of award) | 24 | 1 | 60 | 24
Total |  |  |  | 158

Request for Comments: Written comments and/or suggestions from the public and affected agencies are invited on one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

FOR FURTHER INFORMATION CONTACT: To request more information on the proposed project or to obtain a copy of the data collection plans and instruments, contact Dr. Ravi Basavappa, OSC, DPCPSI, Office of the Director, NIH, 1 Center Drive, MSC 0189, Building 1, Room 203, Bethesda, MD 20892-0189; telephone 301-594-8190; fax 301-435-7268; or email your request, including your address, to earlyindependence@mail.nih.gov.

Comments Due Date: Comments regarding this information collection are best assured of having their full effect if received within 60 days of the date of this publication.

Dated: June 6, 2012.
Lawrence A. Tabak,
Deputy Director, National Institutes of Health.

[FR Doc. 2012-14464 Filed 6-12-12; 8:45 am]

BILLING CODE 4140-01-P